DEPARTMENT OF COMMERCE

National Oceanic and Atmospheric Administration

RIN 0648-XH01

Marine Mammals; File No. 10014-01

AGENCY: National Marine Fisheries Service (NMFS), National Oceanic and Atmospheric Administration (NOAA), Commerce.

ACTION: Notice; receipt of application for amendment.

SUMMARY: Notice is hereby given that the New Jersey Department of Environmental Protection (NJDEP), Division of Science, Research and Technology, P.O. Box 409, Trenton, NJ 08625-0409, has applied in due form for an amendment to their Permit No. 10014 to allow them to take additional marine mammals during surveys for purposes of scientific research.

DATES: Written, telefaxed, or e-mail comments must be received on or before May 9, 2008.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10014-01.

FOR FURTHER INFORMATION CONTACT: Patrick Opay or Kate Swails, (301)713-2289.

SUPPLEMENTARY INFORMATION: The subject permit amendment is requested under the authority of the Marine Mammal Protection Act of 1972, as amended (MMPA; 16 U.S.C. 1361 et seq.), and the regulations governing the taking and importing of marine mammals (50 CFR part 216).

The NJDEP seeks permission to increase the number of marine mammals taken during research conducted to elucidate the distribution and abundance of baleen whales, odontocete whales, pinnipeds, and sea turtles. Research would include take by survey approach during shipboard and aircraft transect surveys. Researchers request authorization to take up to 2,500 common dolphins (Delphinus delphis), 3,200 bottlenose dolphins (Tursiops truncatus), and 1,280 harbor porpoises (Phocoena phocoena) annually. The study area would continue to include U.S. waters offshore of southern New Jersey out to a distance of 20 nautical miles.

In compliance with the National Environmental Policy Act of 1969 (42 U.S.C. 4321 et seq.), an initial determination has been made that the activity proposed will require a supplemental environmental assessment.

Concurrent with the publication of this notice in the Federal Register, NMFS is forwarding copies of this application to the Marine Mammal Commission and its Committee of Scientific Advisors.

Dated: April 3, 2008.
P. Michael Payne,
Chief, Permits, Conservation and Education Division, Office of Protected Resources, National Marine Fisheries Service.

[FR Doc. E8-7480 Filed 4-8-08; 8:45 am]

BILLING CODE 3510-22-S